DEPARTMENT OF LABOR

Office of Federal Contract Compliance Programs; Notice of Reinstatement of Chicago Messenger Service

AGENCY: Office of Federal Contract Compliance Programs, Department of Labor.

ACTION: Notice of reinstatement, Chicago Messenger Service.

SUMMARY: This notice advises that Chicago Messenger Service has been reinstated as an eligible bidder on Federal contracts and subcontracts. For further information, contact Charles E. James, Sr., Deputy Assistant Secretary for Federal Contract Compliance Programs, U.S. Department of Labor, 200 Constitution Avenue, N.W., Room C-3325, Washington, D.C. 20210, (202-693-0101).

SUPPLEMENTARY INFORMATION: Chicago Messenger Service, Chicago, Illinois, is, as of this date, reinstated as an eligible bidder on Federal contracts and subcontracts.

Signed: July 15, 2002, Washington, D.C.
Charles E. James, Sr.
Deputy Assistant Secretary.

[FR Doc. 02-18627 Filed 7-23-02; 8:45 am]

BILLING CODE 4510-CM-M